DEPARTMENT OF AGRICULTURE

Grain Inspection, Packers and Stockyards Administration

7 CFR Part 810

RIN 0580-AB12

United States Standards for Wheat

AGENCY: Grain Inspection, Packers and Stockyards Administration, USDA.

ACTION: Proposed rule; corrections.

SUMMARY: This document corrects the preamble and the regulatory text to a proposed rule published by the Grain Inspection, Packers and Stockyards Administration (GIPSA) in the Federal Register of April 11, 2012, regarding a proposal to revise the U.S. Standards for Wheat under the U.S. Grain Standards Act. The proposed rule would change the definition of Contrasting classes in Hard White wheat and change the grade limits for shrunken and broken kernels. GIPSA believes that these proposed changes will help to facilitate the marketing of wheat.

DATES: The comment period closing date for the proposed rule published April 11, 2012, at 77 FR 21685 remains June 11, 2012.

FOR FURTHER INFORMATION CONTACT: Patrick McCluskey, (816) 872-1258.

SUPPLEMENTARY INFORMATION: In FR Doc. 2012-21685, published April 11, 2012, at 77 FR 21690, make the following corrections:

Preamble Correction

1. On page 21685, in the third column, in the ADDRESSES section, revise the mail entry to read:

• Irene Omade, GIPSA, USDA, STOP 3642, 1400 Independence Avenue SW., Room 2530-B, Washington, DC 20250-3604

2. On page 21687, in the second column, 16th line, the phrase “GIPSA does assume however, that there would be no functional downside” is revised to read “GIPSA does not assume however, that there would be no function downside”.

Regulatory Text Correction

3. On page 21690, the “Maximum percent limits of” section of the table in § 810.2240(a) is correctly revised to read as follows:

§ 810.2240 Grades and grade requirements for wheat.

(a) * * *

Grades and Grade Requirements

* * * * *

Maximum percent limits of:
Defects:
Damaged kernels
Heat (part of total) | 0.2 | 0.2 | 0.5 | 1.0 | 3.0
Total | 2.0 | 4.0 | 7.0 | 10.0 | 15.0
Foreign material | 0.4 | 0.7 | 1.3 | 3.0 | 5.0
Shrunken and broken kernels | 2.0 | 4.0 | 8.0 | 12.0 | 20.0
Total ¹
Wheat of other classes: ²
Contrasting classes | 1.0 | 2.0 | 3.0 | 10.0 | 10.0
Total ³ | 3.0 | 5.0 | 10.0 | 10.0 | 10.0
Stones | 0.1 | 0.1 | 0.1 | 0.1 | 0.1

Dated: April 11, 2012.
Alan R. Christian,
Acting Administrator, Grain Inspection, Packers and Stockyards Administration.

[FR Doc. 2012-9182 Filed 4-18-12; 8:45 am]

BILLING CODE P